DEPARTMENT OF THE INTERIOR

National Park Service

[NPS-WASO-D-DTS#-FR00000034]

Potential National Monument Designations

AGENCY: National Park Service, Interior.

ACTION: Request for comments.

SUMMARY: The National Park Service is seeking public comments on three potential national monument designations: The Medgar and Myrlie Evers Home, Mississippi; Mill Springs Battlefield, Kentucky; and Camp Nelson, Kentucky.

DATES: Written comments will be accepted until September 10, 2018.

ADDRESSES: Written comments may be sent to the National Park Service online at https://parkplanning.nps.gov/potential_monuments_Aug2018. Comments will not be accepted by fax, email, or by any method other than specified above. Bulk comments in any format (hard copy or electronic) submitted on behalf of others will not be accepted.

FOR FURTHER INFORMATION CONTACT: Charles Laudner, Senior Advisor—Office of Congressional and Legislative Affairs, National Park Service, 1849 C Street NW, Washington, DC 20240. Phone (202) 513-7212. Email: CA_Laudner@nps.gov.

SUPPLEMENTARY INFORMATION:

Background

Medgar and Mylie Evers, Home, Mississippi

Medgar Evers was an important national figure in the Civil Rights Movement of the 1950s and 1960s. The assassination of Medgar Evers on June 12, 1963, in the carport of his home in Jackson, Mississippi, was one of the catalysts for the passage of the Civil Rights Act of 1964. Both Medgar and Myrlie, his wife, were major contributors to advancing the goals of the civil rights movement on a national level. The Secretary of the Interior designated the Evers' house a National Historic Landmark on December 23, 2016.

Mill Springs Battlefield, Kentucky

On January 19, 1862, Union and Confederate forces met in the Battle of Mill Springs in Kentucky. The result was an important victory for the Union in the American Civil War which opened the door to Federal invasion of southern states. The battlefield has been designated as a National Historic Landmark. The Mill Springs Battlefield Visitor Center and Museum is located in Nancy, Kentucky.

Camp Nelson, Kentucky

During the American Civil War, Camp Nelson in Jessamine County, Kentucky, served as an important training area for African Americans who joined the Union Army to fight for their freedom. The camp began as a fortified U.S. Army supply depot, hospital, and garrison in 1863. As well as becoming one of the largest recruitment and training centers for African American soldiers, it served as a refugee camp for their wives and children. In 2013, the Secretary of the Interior designated Camp Nelson a National Historic Landmark.

Authority

A potential National Monument designation of these sites by the President through the Antiquities Act, 54 U.S.C. 320301, may serve to preserve their nationally significant historic resources.

The Antiquities Act has been used to preserve and protect natural and historical resources on Federal lands for future generations. President Theodore Roosevelt signed the Antiquities Act in 1906 providing a foundation for natural resource conservation and cultural preservation. It requires that such monuments be limited to “the smallest area of land compatible” with the proper care and management for the protection of the identified objects.

Public Comments

Before including your name, address, phone number, email address, or other personal identifying information in your comment, you should be aware that your entire comment—including your personal identifying information—may be made publicly available at any time. While you may ask us in your comment to withhold your personal identifying information from public review, we cannot guarantee that we will be able to do so.

Dated: August 6, 2018.
P. Daniel Smith,
Deputy Director, exercising the authority of the Director.

[FR Doc. 2018-17133 Filed 8-9-18; 8:45 am]

BILLING CODE 4312-52-P